ENVIRONMENTAL PROTECTION AGENCY

[EPA-HQ-OPP-2006-0708; FRL-8090-7]

Full Tribal Pesticide Program Council; Notice of Public Meeting

AGENCY: Environmental Protection Agency (EPA).

ACTION: Notice.

SUMMARY: The Tribal Pesticide Program Council (TPPC) will hold a 2 and ½ day meeting, beginning on October 11 and ending on October 13, 2006. This notice announces the location and times for the meeting, and sets forth the tentative agenda topics. The October 13, ½ day meeting is scheduled for the TPPC members only.

DATES: The meeting will be held on October 11-12, 2006 from 9 a.m. to 5 p.m.

To request accommodation of a disability, please contact the person listed under FOR FURTHER INFORMATON CONTACT, preferably at least 10 days prior to the meeting, to give EPA as much time as possible to process your request.

ADDRESSES: The meeting will be held at Mystic Lake Casino Hotel, 2400 Mystic Lake Boulevard, Prior Lake, MN 55372. Telephone No. 1-(800) 262-7799, ext. 6526.

Requests to participate in the meeting, identified by docket identification (ID) number EPA-HQ-OPP-2006-0708, may be submitted to the person listed under FOR FURTHER INFORMATION CONTACT.

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcduffie.georgia@epa.gov or Lillian Willmore, TPPC Facilitator, P.O. Box 470829 Brookline Village, MA 02447-0829; telephone number: (617) 232-5742; fax (617) 277-1656; e-mail address: naecology@aol.com.

SUPPLEMENTARY INFORMATION:

I. General Information

A. Does this Action Apply to Me?

You may be potentially affected by this action if you may be potentially affected by this action if you are interested in TPPC's information exchange relationship with EPA regarding important issues related to human health, environmental exposure to pesticides, and insight into EPA's decision-making process. All parties are invited and encourage to attend the meetings and participate as appropriate. Potentially affected entities may include, but are not limited to: Those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the application of this action to a particular entity, consult either person listed under FOR FURTHER INFORMATION CONTACT.

This action is directed to the public in general, and may be of particular interest to those persons who are or may be required to conduct testing of chemical substance under the Federal Food, Drug and Cosmetic Act FFDCA, or the Federal Insecticide, Fungicide, and Rodenticide Act (FIFRA).

B. How Can I Get Copies of this Document and Other Related Information?

1. Docket: EPA has established a docket for this action under docket identification (ID) number EPA-HQ-OPP-2006-0708. Publicly available docket materials are available either in the electronic docket at http://www.regulations.gov, or, if only available in hard copy, at the Office of Pesticide Programs (OPP) Regulatory Public Docket in Rm. S-4400, One Potomac Yard (South Bldg.), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Tentative Agenda

1. TPPC State of the Council Report2. EPA/OPP Update/Report3. Pesticide Impacts on the Colorado River Indian Tribes4. Strategic Planning Discussion5. Worker Protection Standards Revisions6. Container Containment Rule Update7. Highlight Alaska Issues8. Eco-Areas Report and US EPA Region Reports9. Circuit Riders Update10. Mosquito Misters and other Mosquito Abatement Related Concerns11. Panel on NAGPRA and Presentation12. Special Project Grants13. Grant Writing, Diversifying Funding, and How to be Competitive in Obtaining Funding14. Working Session on TPPC Strategic Planning.

III. How Can I Request to Participate in this Meeting?

You may submit a request to participate in this meeting to the person listed under FOR FURTHER INFORMATION CONTACT. Do not submit any information in your request that is considered CBI. Requests to participate in the meeting, identified by docket ID number EPA-HQ-OPP-2006 must be received on or before September 28, 2006.

List of Subjects

Environmental protection, [insert additional terms as appropriate].

Dated: August 28, 2006.
William R. Diamond,
Director, Field External Affairs Division, Office of Pesticide Programs

[FR Doc. E6-14991 Filed 9-12-06; 8:45 am]

BILLING CODE 6560-50-S